DEPARTMENT OF HEALTH AND HUMAN SERVICES

National Committee on Vital and Health Statistics: Meeting

Pursuant to the Federal Advisory Committee Act, the Department of Health and Human Services (DHHS) announces the following advisory committee meeting.

Name: National Committee on Vital and Health Statistics (NCVHS), Subcommittee on Populations Meeting.

Time and Date: November 19, 2008 1 p.m.-5:30 p.m.

Place: Hubert H. Humphrey Building, 200 Independence Avenue, SW., Room 305A, Washington, DC 20201.

Status: Open.

Purpose: The Populations Subcommittee will hear testimony from invited experts on Federal data capacity to support health policy in areas relating to health insurance; including coverage, under-insurance, access to insurance coverage, and costs. The Subcommittee will also hear about the capability of federal data systems to monitor the effects of economic downturns on health insurance coverage and on health care expenditures. The hearing will conclude with a roundtable discussion between the Subcommittee and speakers.

Contact Person for More Information: Substantive program information as well as summaries of meetings and a roster of committee members may be obtained from Dale Hitchcock, lead staff for Populations Subcommittee, NCVHS, Office of the Assistant Secretary for Planning and Evaluation, Office of Science and Data Policy, 200 Independence Avenue, SW., Hubert Humphrey Building Room 440D, Washington, DC 20201, telephone (202) 690-6796 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 23, 2008.
James Scanlon,
Deputy Assistant Secretary for Science and Data Policy, Office of the Assistant Secretary for Planning and Evaluation.

[FR Doc. E8-25885 Filed 10-29-08; 8:45 am]

BILLING CODE 4151-05-P